ENVIRONMENTAL PROTECTION AGENCY

[ER-FRL-6645-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 4, 2003 (68 FR 16511).

Draft EISs

ERP No. D-AFS-E65067-AL

Rating EC1, Forest Health and Red-Cockade Woodpecker (RCW) Initiative, Implementation, Talladega National Forest, Talladega and Shoal Creek Ranger Districts, Calhoun, Cherokee, Clay, Clebourne and Talladega Counties, AL.

Summary: While EPA supports the efforts to restore the longleaf pine ecosystem and enhance red-cockade woodpecker habitat, EPA has environmental concerns related to potential water quality impacts and herbicide use.

ERP No. D-AFS-J70020-CO

Rating EC1, Upper Blue Stewardship Project, Vegetation Management, Travel Management, and Dispersed Camping Sites Designation, Implementation, U.S. Army COE 404 Permit, White River National Forest, Dillon Ranger District, Summit County, CO.

Summary: EPA expressed environmental concerns with the creation of permanent, recreation timber clearings in lynx corridor and foraging habitat.

ERP No. D-AFS-K65258-CA

Rating EC2, Emigrant Wilderness Dams Project, Reconstruct, Repair, Maintain and Operate 12 Dams; Snow, Bigelow, Huckleberry, Emigrant Meadow, Middle Emigrant, Emigrant, Leighton, Long, Lower Buck, Y-Meadow and Bear, Stanislous National Forest, Summer Ranger District, Tuolumne County, CA.

Summary: EPA expressed environmental concerns regarding the potential impacts to wilderness, air and water quality, and wildlife as a result of the maintenance of twelve dams. EPA requested additional information on water quality impacts, compliance with wilderness policy, and rationale to support the proposed alternative be included in the final EIS.

ERP No. D-AFS-L65426-OR

Rating EC2, Flagtail Fire Recovery Project, To Address the Differences between Existing and Desired Conditions, Blue Mountain Ranger District, Malheur National Forest, Grant County, OR.

Summary: EPA expressed environmental concerns with potential impacts from harvesting activities and grazing, and the removal and destruction of nest structures for landbirds in dry forest habitats.

ERP No. D-AFS-L65430-OR

Rating EC2, Monument Fire Recovery Project and Proposed Non Significant Forest Plan Amendments, Implementing Four Alternatives for Recovery, Malheur National Forest, Prairie City Ranger District, Grant and Baker Counties, OR.

Summary: EPA expressed environmental concerns with potential adverse impacts from harvesting which can result in disturbance and habitat loss primary cavity excavator bird species.

ERP No. D-BLM-J02042-UT

Rating EC2, Uinta Basin Natural Gas Project, Proposed to Produce and Transport Natural Gas in the Atchee Wash Oil and Gas Production Region, Resource Development Group, Right-of-Way Grant, U.S. Army COE Section 404 Permit and Endangered Species Act Permit, Uintah County, Utah.

Summary: EPA expressed environmental concerns with the regional air quality analysis and impacts to wetlands.

ERP No. D-BLM-J65387-CO

Rating EC1, Silverton Outdoor Learning and Recreation Center, Authorization for Long-Term Use of 1,300 acres for Backcountry-type Skiing, Summer Recreation and Educational Activities, Amendment of the San Juan/San Miguel Resource Management Plan, San Juan County, CO.

Summary: EPA expressed environmental concerns regarding the potential adverse impacts to alpine vegetation, lynx habitat, and from foreseeable future development.

ERP No. D-BLM-L65431-OR

Rating EC2, Timbered Rock Fire Salvage and Elk Creek Watershed Restoration Project, Implementation, Northwest Forest Plan, Butte Falls Resource Area, Medford District, Douglas, Jackson, and Josephine Counties, OR.

Summary: EPA expressed environmental concerns regarding indirect and cumulative effects, project restoration activities and proposed salvage prescriptions that are inconsistent with the Northwest Forest Plan.

ERP No. D-HUD-L85027-WA

Rating LO, Tacoma Housing Authority (THA) Hope VI Salishan Redevelopment Project, Revitalize the Community Neighborhood, Funding, NHPA Section 106, NPDES Permit, City of Tacoma, WA.

Summary: EPA Region 10 used a screening tool to conduct a limited review of this action. Based upon this screen, EPA does not foresee having any environmental objections to the proposed project.

ERP No. D-NPS-F61021-WI

Rating LO, Apostle Islands National Lakeshore Wilderness Study, Wilderness Designation or Nondesignation, Ashland and Bayfield Counties, WI.

Summary: EPA expressed lack of objections with the proposed wilderness designation.

ERP No. DR-COE-K39066-CA

Rating EC2, Port J Long Beach Pier J South Terminal Expansion Project, Additional Cargo Requirements Associated with Growing Export and Import Volumes, Port Master Plan (PMP) Amendment, COE Section 404, 401, and 10 Permits, City of Long Beach, CA.

Summary: EPA raised environmental concerns on potential impacts to air quality and aquatic resources, and the adequacy of mitigation for these impacts. The EIS appears to underestimate the project's air pollutant emissions; additional air quality mitigation may be needed. EPA has concerns that the EIS did not address the source(s) from which material for the project's landfill component would be obtained; impacts associated with obtaining this fill material; and consistency with Federal Regulations at 40 CFR 230, including identification of the Least Environmentally Damaging Practicable Alternative.

Final EISs

ERP No. F-AFS-J65379-CO

Green Ridge Mountain Pine Beetle Analysis Project, Proposal to Reduce the Spread of Mountain Pine Beetle and Associated Tree Mortality, Medicine Bow-Routt National Forest & Thunder Basin National Grassland, Parks Ranger District, Jackson County, CO.

Summary: EPA expressed environmental concerns with adverse impacts to aquatic resources from soil disturbance.

ERP No. F-AFS-L65360-AK

Madan Timber Sale, Implementation, Tongass National Forest, Wrangell Ranger District, COE Section 404 Permit and NPDES Permit, AK.

Summary: No formal comment letter was sent to the preparing agency.

ERP No. F-BLM-J65240-WY

Pittsburg and Midway Coal Mining Proposal (WYW148816), Exchange of Private Owned Land P&M for Federally-Owned Coal, Lincoln, Carbon and Sheridan Counties, WY.

Summary: EPA expressed environmental concerns with potential cumulative air quality impacts from this coal mine, when added to other energy development in northeastern Wyoming. Exceedances of Clean Air Act criteria on the Northern Cheyenne Reservation in Montana, and extinguishing the coal seam fire should be addressed before completing the proposed land exchange.

ERP No. F-CGD-G03021-LA

Port Pelican Deepwater Port Construction and Operation, License Approval, Vermillion Lease Block 140 on the Continental Shelf in the Gulf of Mexico southwest of Freshwater City, LA.

Summary: EPA has no objections to the proposed action.

ERP No. F-COE-K39077-CA

East Cliff Drive Bluff Protection and Parkway Project, Alternatives Evaluation for Coastal Bluff Erosion Protection, City of Santa Cruz, Santa Cruz County, CA.

Summary: No formal comment letter was sent to the preparing agency.

ERP No. F-NPS-D61053-VA

Green Spring Colonial National Historical Park Management Plan, Implementation, James City County, VA.

Summary: EPA's concerns were adequately addressed in the final EIS.

Dated: October 28, 2003.
Joseph C. Montgomery,
Director, NEPA Compliance Division, Office of Federal Activities.

[FR Doc. 03-27476 Filed 10-30-03; 8:45 am]

BILLING CODE 6560-50-P